NATIONAL AERONAUTICS AND SPACE ADMINISTRATION

[Notice: (12-084)]

NASA Federal Advisory Committees

AGENCY: National Aeronautics and Space Administration.

ACTION: Annual invitation for public nominations by U.S. citizens for service on NASA science advisory subcommittees.

SUMMARY: In accordance with the Federal Advisory Committee Act, Public Law 92-463, as amended, the National Aeronautics and Space Administration, and in accordance with the Memorandum for the Heads of Executive Departments and Agencies signed on December 17, 2010, signed by the Director of the Office of Science and Technology Policy (OSTP), Executive Office of the President, NASA announces its annual invitation for public nominations for service on NASA science advisory subcommittees. These science advisory subcommittees report to the Science Committee of the NASA Advisory Council (NAC). U.S. citizens may nominate individuals and also submit self-nominations for consideration as potential members of NASA's science advisory subcommittees. NASA's science advisory subcommittees have member vacancies from time to time throughout the year, and NASA will consider nominations and self-nominations to fill such intermittent vacancies. NASA is committed to selecting members to serve on its science advisory subcommittees based on their individual expertise, knowledge, experience, and current/past contributions to the relevant subject area.

The following qualifications/experience are highly desirable in nominees, and should be clearly presented in their nomination letters:

• At least ten years (10) post-Ph.D. research experience including publications in the scientific field of the subcommittee they are nominated or comparable experience,

• Leadership in scientific and/or education and public outreach fields as evidenced by award of prizes, invitation to national and international meetings as speaker, organizer of scientific meetings/workshops, or comparable experience;

• Participation in NASA programs either as member of NASA mission science team, Research & Analysis program, membership on an advisory/working group or a review panel, or comparable experience;

• Good knowledge of NASA programs in the scientific field of the subcommittee they are applying for, including the latest NASA Science Plan (available as a link from http://science.nasa.gov/about-us/science-strategy/), or comparable experience;

• Knowledge of the latest Decadal Survey conducted by the National Research Council or other relevant advisory reports for the scientific field of the subcommittee.

Nominees from any category of organizations or institutions within the U.S. are welcome, including, but not limited to, educational, industrial, and not-for-profit organizations, Federally Funded Research and Development Centers (FFRDCs), University Affiliated Research Centers (UARCs), NASA Centers, the Jet Propulsion Laboratory (JPL), and other Government agencies. Nominees need not be presently affiliated with any organization or institution.

These are not full-time positions. Successful nominees will be required to attend meetings of the subcommittee approximately two to four times a year, either in person (NASA covers travel-related expenses for this non-compensated appointment) or via telecon/WebEx. Successful nominees who are not already U.S. Government employees will become Special Government Employees (SGEs). All successful nominees will be required to submit a confidential financial disclosure form and undergo a conflict of interest review and clearance by the NASA Office of the General Counsel before they are officially appointed.

DATES: The deadline for NASA receipt of all public nominations is November14, 2012.

ADDRESSES: Nominations and self-nominations from interested U.S. citizens must be sent to NASA in letter form, be signed, and must include the name of specific NASA science advisory subcommittee of interest for NASA consideration. Nominations and self-nomination letters are limited to specifying interest in only one (1) NASA science advisory subcommittee per year. The following additional information is required to be attached to each nomination and self-nomination letter (i.e., cover letter): (1) Professional resume (one-page maximum); (2) professional biography (one-page maximum). All public nomination packages must be submitted electronically via email to NASA; paper-based documents sent through postal mail (hard-copies) will not be accepted. Note: Nomination letters that are noncompliant with inclusion of the three (3) mandatory documents listed above will not receive further consideration by NASA.

Please submit the nomination as a single package containing cover letter and both required attachments electronically to the specific email address identified below for the science subcommittee of interest:

Astrophysics Subcommittee (APS)

—aps-execsec@hq.nasa.gov

Earth Science Subcommittee (ESS)

—ess-execsec@hq.nasa.gov

Heliophysics Subcommittee (HPS)

—hps-execsec@hq.nasa.gov

Planetary Protection Subcommittee (PPS)

—pps-execsec@hq.nasa.gov

Planetary Science Subcommittee (PSS)

—pss-execsec@hq.nasa.gov

FOR FURTHER INFORMATION CONTACT: To obtain further information on NASA's science advisory subcommittees, please visit the NAC Science Committee's subcommittee Web site noted below. For any questions, please contact Ms. Marian Norris, Advisory Committee Specialist, Strategic Integration & Management Division, Science Mission Directorate, NASA Headquarters, Washington, DC 20546, (202) 358-4452.

SUPPLEMENTARY INFORMATION: NASA's five (5) current science advisory subcommittees are listed below. Additional information about these science subcommittees may be found at the NAC Science Committee's subcommittee Web site at http://science.nasa.gov/science-committee/subcommittees/:

• Astrophysics Subcommittee (APS)—The Astrophysics Subcommittee is a standing subcommittee of the NAC Science Committee supporting the advisory needs of the NASA Administrator, the Science Mission Directorate (SMD), SMD's Astrophysics Division, and other NASA Mission Directorates as required. The scope of the APS includes projects and observational and theoretical study of the origins, evolution, and destiny of the universe and the search for and study of Earth-like planets and habitable, extrasolar environments. In addition to scientific research, the scope encompasses considerations of the development of near-term enabling technologies, systems, and computing and information management capabilities, developments with the potential to provide long-term improvements in future operational systems, as well as training of the next generation of astronomers, and education and public outreach.

• Earth Science Subcommittee (ESS)—The Earth Science Subcommittee is a standing subcommittee of the NAC Science Committee supporting the advisory needs of the NASA Administrator, the Science Mission Directorate (SMD), SMD's Earth Science Division (ESD), and other NASA Mission Directorates as required. The scope of the ESS includes the advancement of scientific knowledge of the Earth system through space-based observation and the pioneering use of these observations in conjunction with process studies, data assimilation and modeling to provide the Nation with improved capability to: Predict climate variability, global change, and weather; mitigate and respond to natural hazards; and improve the scientific basis for policy decisions. In addition to observations and scientific research, the scope encompasses the development of computing and information management capabilities and other enabling technologies, including those with the potential to improve future operational satellite and ground systems.

• Heliophysics Subcommittee (HPS)—Heliophysics Subcommittee is a standing subcommittee of the NAC Science Committee supporting the advisory needs of the NASA Administrator, the Science Mission Directorate (SMD), SMD's Heliophysics Division (HPD), and other NASA Mission Directorates as required. The scope of the HPS includes all aspects of heliophysics, including the dynamical behavior of the Sun and its heliosphere; the dynamical behavior of the space environments of the Earth and other solar system bodies; the multi-scale interaction between solar system plasmas and the interstellar medium; and energy transport throughout the solar system and its impact on the Earth and other solar system bodies. In addition to scientific research, the scope encompasses considerations of the development of enabling technologies, systems, and computing and information management capabilities, as well as developments with the potential to provide long-term improvements to future space weather operational systems.

• Planetary Protection Subcommittee (PPS)—Planetary Protection Subcommittee is a standing subcommittee of the NAC Science Committee supporting the advisory needs of the Administrator, the Science Mission Directorate (SMD), SMD's Planetary Science Division, NASA's Planetary Protection Officer and other NASA Mission Directorates as required. The scope of the PPS includes programs, policies, plans, hazard identification and risk assessment, and other matters pertinent to the Agency's responsibilities for biological planetary protection. This scope includes consideration of NASA planetary protection policy documents, implementation plans, and organization. The subcommittee will review and recommend appropriate planetary protection categorizations for all bodies of the solar system to which spacecraft will be sent. The scope also includes the development of near-term enabling technologies, systems, and capabilities, as well as developments with the potential to provide long-term improvements in future operational systems to support planetary protection. Outside the scope of the Subcommittee's responsibilities are issues that pertain solely to the quality and interpretation of scientific experiments and data in support of solar system exploration.

• Planetary Science Subcommittee (PSS)—Planetary Science Subcommittee is a standing subcommittee of the NAC Science Committee supporting the advisory needs of the NASA Administrator, the Science Mission Directorate (SMD), SMD's Planetary Science Division (PSD), and other NASA Mission Directorates as required. The scope of the PSS includes all aspects of planetary science, scientific exploration of the Moon and Mars, the robotic exploration of the solar system, astrobiology, space- and ground-based research, technology development, planning, and training required to support these science areas. In addition to scientific research, the scope encompasses considerations of the development of near-term enabling technologies, systems, and computing and information management capabilities, as well as developments with the potential to provide long-term improvements in future operational systems. Responsibility for biological planetary protection is outside the purview of the PSS and resides with the Planetary Protection Subcommittee (PPS).

Patricia D. Rausch,
Advisory Committee Management Officer, National Aeronautics and Space Administration.

[FR Doc. 2012-26100 Filed 10-23-12; 8:45 am]

BILLING CODE 7510-13-P